COMMODITY FUTURES TRADING COMMISSION

17 CFR Part 1

Investment of Customer Funds

AGENCY: Commodity Futures Trading Commission.

ACTION: Reopening comment period.

SUMMARY: The Commodity Futures Trading Commission (Commission) is reopening the comment period for the proposed amendments to Regulation 1.25. These amendments would, among other things, allow futures commission merchants and derivatives clearing organizations (DCO) to engage in repurchase agreements with securities deposited by customers subject to certain conditions and modify the portfolio time-to-maturity requirements for securities deposited in connection with certain collateral management programs of DCOs pursuant to certain conditions. The new deadline for submitting public comments is September 5, 2003.

DATES: Written comments must be received on or before September 5, 2003.

ADDRESSES: Comments on proposed amendments to Regulation 1.25 should be sent to Jean A. Webb, Secretary, Commodity Futures Trading Commission, Three Lafayette Centre, 1155 21st Street, NW., Washington, DC 20581. Comments may be sent by facsimile transmission to (202) 418-5528 or by e-mail to secretary@cftc.gov. Reference should be made to “Proposed Amendments to Regulation 1.25.”

FOR FURTHER INFORMATION CONTACT: John C. Lawton, Deputy Director and Chief Counsel, or Lois Gregory, Special Counsel, Division of Clearing and Intermediary Oversight, Commodity Futures Trading Commission, Three Lafayette Centre, 1155 21st Street, NW., Washington DC 20581. Telephone: (202) 418-5450.

SUPPLEMENTARY INFORMATION: On June 30, 2003, the Commission published a notice of proposed rulemaking which sought comment on proposed amendments to Regulation 1.25.¹ The amendments would allow futures commission merchants and derivatives clearing organizations (DCO) to engage in repurchase agreement with securities deposited by customers subject to certain conditions and modify the portfolio time-to-maturity requirements for securities deposited in connection with certain collateral management programs of DCOs pursuant to certain conditions. The Commission also requested comments concerning whether the portfolio time-to-maturity requirement should be modified for portfolios consisting exclusively of Treasury securities; whether the restriction on embedded derivatives should be modified, whether the list of permitted benchmarks for variable rate securities should be expanded, and whether the concentration limits on reverse repurchase agreements should be changed. The Commission established a 30-day period for submitting public comment, ending July 30, 2003.

¹ 68 FR 38654.

By letter dated July 24, 2003, an association of futures industry participants requested an extension of the original comment period until September 5, 2003, so that additional parties who could not meet the original July 30 deadline could submit comments letters.

In response to this request and in order to ensure that an adequate opportunity is provided for submission of meaningful comments, the Commission has determined to reopen the comment period for the notice of proposed rulemaking to September 5, 2003.

Issued in Washington, DC, on July 30, 2003, by the Commission.
Jean A. Webb,
Secretary of the Commission.

[FR Doc. 03-19949 Filed 8-5-03; 8:45 am]

BILLING CODE 6351-01-M